DEPARTMENT OF ENERGY

Federal Energy Regulatory Commission

[Project No. 5073-096]

Benton Falls Associates, New York LP, Everett E. Whitman; Notice of Application for Transfer of License and Soliciting Comments, Motions To Intervene, and Protests

On August 2, 2016, Benton Falls Associates, New York LP, co-licensee (transferor) filed an application for after-the-fact transfer of license of the Benton Falls Project No. 5073. The project is located on the Sebasticook River in Kennebec County, Maine.

The applicants seek Commission approval to transfer the license for the Benton Falls Project from Benton Falls Associates, New York LP and Everett E. Whitman (deceased) as co-licensees to Benton Falls Associates, New York LP as the sole licensee.

Applicants Contact: Mr. Andrew Locke, Benton Falls Associates, L.L.C., c/o Essex Hydro Associates, LLC, 55 Union Street, 4th Floor, Boston, MA 02108, Phone: 617-367-0032, Email: alocke@essexhydro.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-5073-096.

Dated: August 12, 2016.
Kimberly D. Bose,
Secretary.

[FR Doc. 2016-19755 Filed 8-17-16; 8:45 am]

BILLING CODE 6717-01-P